DEPARTMENT OF COMMERCE

Submission for OMB Review; Comment Request

The Department of Commerce has submitted to the Office of Management and Budget (OMB) for clearance the following proposal for collection of information under the provisions of the Paperwork Reduction Act (44 U.S.C. Chapter 35).

Agency: Office of the Secretary.

Title: Postsecondary Internship Program Intern Evaluation Survey.

Form Number(s): CD-577.

OMB Approval Number: 0690-0021.

Type of Request: Regular submission.

Burden Hours: 55 hours.

Number of Respondents: 110.

Average Hours Per Response: 30 minutes.

Needs and Uses: The Office of Executive Budgeting and Assistance Management (OEBAM) manages the U.S. Department of Commerce (DOC) Postsecondary Internship Program. The program is competitively awarded and funded by cooperative agreements with the purpose of providing experiential training opportunities for post secondary students at DOC and other partner federal agencies. The program is administered through a partnership between DOC and non-profit and/or educational institutions. We intend to use the information collected from the intern evaluations to make program improvements and implement performance measures for strategic planning.

Affected Public: Individuals or households, and Federal government.

Frequency: Three times per year (summer, fall and spring sessions).

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days after publication to David Rostker, OMB Desk Officer, Room 10202, New Executive Office Building, Washington, DC 20503.

Dated: March 3, 2003.
Gwellnar Banks,
Management Analyst, Office of the Chief Information Officer.

[FR Doc. 03-5361 Filed 3-6-03; 8:45 am]

BILLING CODE 3510-BV-P